DEPARTMENT OF HEALTH AND HUMAN SERVICES

Centers for Disease Control and Prevention

[60 Day-07-07BI]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Rapid HIV Testing in Community Mental Health Settings Serving African Americans—New—National Center for HIV, Viral Hepatitis, STD and TB Prevention (NCHHSTP), Centers for Disease Control and Prevention (CDC).

Background and Brief Description

People with chronic mental illness, including those with substance use disorders, are at increased risk of HIV infection compared with the general population. However, not enough is known about the risk behaviors, willingness to be tested for HIV, and HIV prevalence among persons with chronic mental illness. In addition, the interrelations among diagnosis of HIV infection, compliance with medical care, subsequent risk behaviors, and the course of mental illness have not been well-described. Mental health clinics are an important setting for HIV rapid testing and promoting prevention efforts against the transmission of HIV infection.

The objectives of this project are to (1) increase the number of mental health providers who routinely provide HIV counseling, testing, and linkage to care in settings that provide mental health care, especially those serving African American communities; and (2) describe the relationship between mental illness, HIV risk behaviors, and access to HIV testing and services, in order to inform the development of optimal HIV prevention interventions for persons with chronic mental illness, and particularly for African Americans with chronic mental illness. Staff at selected implementation sites will routinely offer counseling and rapid HIV testing to clients and administer a brief survey to assess HIV risk behaviors, previous access to HIV testing and services, and mental health symptoms. Collection of data from client medical records will provide information on diagnoses, clinical course, and treatment history. Clients who enroll will be followed longitudinally with a follow-up survey offered at 6-month intervals and repeat rapid HIV testing offered annually.

This project will collect data from clients using brief surveys administered on a voluntary basis. Collection of data will provide information on client demographics; current behaviors that may facilitate HIV transmission, including sexual and drug-use behaviors; current psychiatric symptoms, determined using brief rating scales; access and barriers to HIV testing, prevention, and treatment services; and adherence to psychiatric and medical treatment regimens. CDC is requesting approval for a 3-year clearance for data collection. Data will be collected in 4 community mental health sites. CDC estimates that an average of 900 clients will be asked to participate at each site annually and that 80% will accept, resulting in 2,880 new survey respondents each year across all sites. The average duration of the initial survey is estimated to be 45 minutes. CDC estimates an 80% acceptance rate at 6-month follow-up among the initial 2,880 respondents, resulting in 2,304 respondents for the follow-up survey at 6-month intervals and an average of 4,608 follow-up respondents per year over the course of the project. The average duration of the follow-up survey is estimated to be 30 minutes. Participation is voluntary. Data collection will provide important insights into the relationship between HIV risk behaviors and psychiatric illness. There is no cost to the respondents other than their time.

Estimated Annualized Burden Hours
Type of form | Average number of respondents per annum | Average number of responses per respondent | Average burden per response (Hours) | Total burden per annum (Hours)
Clinic Patient Initial Survey | 2,880 | 1 | 45/60 | 2,160
Clinic Patient Follow-up Survey | 4,608 | 2 | 30/60 | 4,608
Total |  |  |  | 6,768

Dated: July 26, 2007.
Maryam I. Daneshvar,
Acting Reports Clearance Officer, Centers for Disease Control and Prevention.

[FR Doc. E7-14893 Filed 7-31-07; 8:45 am]

BILLING CODE 4163-18-P